CONSUMER PRODUCT SAFETY COMMISSION

16 CFR Part 1218

Safety Standard for Bassinets and Cradles; Correction

AGENCY: Consumer Product Safety Commission.

ACTION: Final rule; correction.

SUMMARY: The United States Consumer Product Safety Commission (Commission) is correcting a final rule that appeared in the Federal Register of October 23, 2013 (78 FR 63019). The document established a standard for bassinets and cradles that incorporates by reference ASTM F2194-13, with certain modifications. The Commission is correcting two references to sections of ASTM F2194-13.

DATES: Effective on April 23, 2014.

FOR FURTHER INFORMATION CONTACT: William Dewgard, Directorate for Compliance, Consumer Product Safety Commission, 4330 East West Highway, Bethesda, MD 20814; telephone: (301) 504-7599; wdewgard@cpsc.gov.

SUPPLEMENTARY INFORMATION: The Commission published a final rule establishing a standard for bassinets and cradles that incorporates by reference ASTM F2194-13, with certain modifications. In FR Doc. 2013-24023, appearing on page 63019 in the Federal Register of October 23, 2013, two references to sections of ASTM F2194-13 were not correct.

The following corrections are made:

§ 1218.2 [Corrected]

1. On page 63034, in the third column, in § 1218.2, in paragraph (b)(1)(i), “In addition, bassinet/cradle attachments to cribs or play yards, as defined in 3.1.2 or 3.1.12, are included in the scope of the standard when in the bassinet/cradle use mode.” is corrected to read: “In addition, bassinet/cradle attachments to cribs or play yards, as defined in 3.1.2 or 3.1.13, are included in the scope of the standard when in the bassinet/cradle use mode.”

2. On page 63035, in the second column, in § 1218.2, in paragraph (b)(5)(vi), “The bassinet bed shall not tip over and shall retain the CAMI newborn dummy when tested in accordance with 7.12.5.3.” is corrected to read: “The bassinet bed shall not tip over and shall retain the CAMI newborn dummy when tested in accordance with 7.12.4.3.”

Dated: December 18, 2013.
Todd Stevenson,
Secretary, U.S. Consumer Product Safety Commission.

[FR Doc. 2013-30527 Filed 12-23-13; 8:45 am]

BILLING CODE 6355-01-P